DEPARTMENT OF HOUSING AND URBAN DEVELOPMENT

[Docket No. FR-5909-N-23]

30-Day Notice of Proposed Information Collection: Evaluation of the Jobs Plus Pilot Program

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: April 28, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on December 28, 2015 at 80 FR 80790.

A. Overview of Information Collection

Title of Information Collection: Evaluation of the Jobs Plus Pilot Program.

OMB Approval Number: 2528-New.

Type of Request: New collection.

Form Number: None.

Description of the need for the information and proposed use: HUD's 2014 Appropriations included funding to support the implementation of the Jobs Plus Pilot Program, a place-based program designed to increase work and earnings among public housing residents. Nine public housing agencies (PHAs) were awarded grant funds in the Spring of 2015, and will implement the Jobs Plus program over a period of four years. The program as designed includes three core components: (1) Employment-related services, (2) financial incentives—the Jobs Plus Earned Income Disregard (JPEID), and (3) community supports for work. The Jobs Plus program seeks to replicate the model tested under the Jobs Plus Demonstration back in the 1990s and early 2000, which led to sustained growth in earned income among residents at sites that fully implemented the program. This current generation of the Jobs Plus program, however, will differ from the Jobs Plus demonstration in some important ways—first, the current iteration of the program will benefit from a more robust financial incentive, and second, the program will be implemented almost twenty years after the initial demonstration, in a very different employment market. Because of these important variations, HUD is supporting an evaluation of the Jobs Plus Pilot program, with the goal of documenting the programs established by the Jobs Plus Pilot Program grantees and laying the groundwork for future evaluative work that will seek to document the impact of the program, both on the program participants, as well as the entire target development. Specific research objectives include, but are not limited to: Describing the set of activities and partnerships established by grantees under core program components; describing the amount and type of leveraged resources accessed by each grantee; describing the extent to which grantees are successful at engaging a high percentage of residents in some aspect of program participation; documenting the ease with which PHAs implemented the JPEID; and documenting the costs of implementing and operating the Jobs Plus program. Data to be analyzed during the evaluation include administrative data, as well as data collected directly from PHAs, Jobs Plus program administrators, partners and staff, as well as residents of developments where Jobs Plus is being implemented. This request for OMB clearance includes the data collection instruments that will be utilized during two separate rounds of site visits to each of the nine program sites, including a site visit interview guide and a focus group discussion guide.

Respondents (i.e. affected public): PHAs administering the Jobs Plus Pilot program, Jobs Plus Pilot program community partners, and residents of participating developments.

Form | Respondent sample | Number of respondents | Average time to complete (minimum, maximum) in minutes | Frequency | Total burden (hours)
Site Visit Interview Guide #1 | 12 staff and stakeholders from all 9 Jobs Plus sites | 108 | 90 (75-105) | 1 | 162
Focus Group Discussion Guide #1 | 15 residents at each of the 9 Jobs Plus sites | 135 | 90 (50-70) | 1 | 202.5
Site Visit Interview Guide #1 | 12 staff and stakeholders from all 9 Jobs Plus sites | 108 | 90 (75-105) | 1 | 162
Focus Group Discussion Guide #2 | 15 residents at each of the 9 Jobs Plus sites | 135 | 90 (50-70) | 1 | 202.5
Total Burden Hours |  |  |  |  | 729

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: March 23, 2016.
Colette Pollard,
Department Reports Management Officer, Office of the Chief Information Officer.

[FR Doc. 2016-07064 Filed 3-28-16; 8:45 am]

BILLING CODE 4210-67-P